OFFICE OF SPECIAL COUNSEL

OSC Annual Survey

AGENCY: Office of Special Counsel.

ACTION: Notice for public comment.

SUMMARY: In accordance with the Paperwork Reduction Act of 1995 and implementing regulations, the U.S. Office of Special Counsel (OSC), is requesting approval from the Office of Management and Budget (OMB) for use of a previously approved information collection (survey). OSC is required by statute to annually conduct the survey and publish the results in OSC's annual report. The OSC Annual Survey consists of four electronic questionnaires. The prior OMB approval for the survey expired November 30, 2016. OSC is requesting emergency approval for the survey, and we are not making any changes to the previously approved survey.

DATES: Written comments should be received on or before June 12, 2017. However, pursuant to regulations, OSC is requesting OMB's emergency approval by April 17, 2017. Therefore, comments are best assured of having full effect if received by OMB within 5 days of this notice's publication in the Federal Register.

ADDRESSES: You may submit written comments by mail to: Office of Information and Regulatory Affairs, Office of Management and Budget, Attention: Desk Officer for OSC, New Executive Office Building, Room 10235, Washington, DC 20503; or by email via: oira_submission@omb.eop.gov.

FOR FURTHER INFORMATION CONTACT: Kenneth Hendricks, Clerk of the U.S. Office of Special Counsel, by telephone at (202) 254-3600, or by email at khendricks@osc.gov.

SUPPLEMENTARY INFORMATION: Current and former Federal employees, employee representatives, other Federal agencies, state and local government employees, and the general public are invited to comment on: (a) Whether the proposed collection of information is necessary for the proper performance of OSC functions, including whether the information will have practical utility; (b) the accuracy of OSC's estimate of the burden of the proposed collections of information; (c) ways to enhance the quality, utility, and clarity of the information to be collected; and (d) ways to minimize the burden of the collection of information on respondents, including through the use of automated collection techniques or other forms of information technology.

OSC is an independent agency responsible for among other things, (1) investigation of allegations of prohibited personnel practices defined by law at 5 U.S.C. 2302(b), protection of whistleblowers, and certain other illegal employment practices under titles 5 and 38 of the U.S. Code, affecting current or former Federal employees or applicants for employment, and covered state and local government employees; and (2) the interpretation and enforcement of Hatch Act provisions on political activity in chapters 15 and 73 of title 5 of the U.S. Code. OSC is required to conduct an annual survey of individuals who seek its assistance. Section 13 of Public Law 103-424 (1994), codified at 5 U.S.C. 1212 note, states, in part: “[T]he survey shall—(1) determine if the individual seeking assistance was fully apprised of their rights; (2) determine whether the individual was successful either at the Office of Special Counsel or the Merit Systems Protection Board; and (3) determine if the individual, whether successful or not, was satisfied with the treatment received from the Office of Special Counsel.” The same section also requires OSC to publish the survey's results in OSC's annual report to Congress. Copies of prior years' annual reports are available on OSC's Web site, at https://osc.gov/Pages/Resources-ReportsAndInfo.aspx or by calling OSC at (202) 254-3600. The prior OSC Annual Survey, OMB Control Number 3255-0003, expired on November 30, 2016. OSC is requesting emergency approval and reinstatement without change of this previously approved collection of information. As with the prior approved survey, this survey will be hosted by Survey Monkey (https://www.surveymonkey.com).

The survey questionnaires are available for review on line at https://osc.gov/Resources/Survey%20Samples%202017.pdf or by calling OSC at (202) 254-3600.

Type of Information Collection Request: Reinstatement without change of a previously approved collection of information that expired on November 30, 2016.

Affected public: Filers (or their representatives) seeking OSC services through: (1) Complaints alleging prohibited personnel practice or Hatch Act violations; or (2) disclosures of information alleging violation of law, rule, or regulation.

Respondent's Obligation: Voluntary.

Estimated Annual Number of Survey Form Respondents: 500.

Frequency of Survey form use: Annual.

Estimated Average Amount of Time for a Person to Respond to survey: 12 minutes.

Estimated Annual Survey Burden: 100 hours.

OSC will use the questionnaires to survey filers, whose matters OSC closed or otherwise resolved during the prior fiscal year, on their experience at OSC. Specifically, the survey asks questions relating to whether the respondent was: (1) Apprised of his or her rights; (2) successful at the OSC or at the Merit Systems Protection Board; and (3) satisfied with the treatment received at the OSC.

Dated: April 6, 2017.
Bruce Gipe,
Chief Operating Officer.

[FR Doc. 2017-07281 Filed 4-11-17; 8:45 am]

BILLING CODE 7405-01-P